COMMISSION ON CIVIL RIGHTS

Agenda and Notice of Public Meeting of the Michigan Advisory Committee

Notice is hereby given, pursuant to the provisions of the rules and regulations of the U.S. Commission on Civil Rights, that a meeting of the Michigan Advisory Committee to the Commission will convene at 9 a.m. and adjourn at 1 p.m. on Tuesday, March 14, 2000, at the Holiday Inn-South/Convention Center, 6820 South Cedar Street, Lansing, Michigan 48911. The purpose of the meeting is to hold a press conference to release the Committee's report, Employment Rehabilitation Services in Michigan. The Committee will also review and act on its report, “Civil Rights Issues Facing Arab Americans,” and plan future activities.

Persons desiring additional information, or planning a presentation to the Committee, should contact Committee Chairperson Roland Hwang, 517-373-1480, or Constance M. Davis, Director of the Midwestern Regional Office, 312-353-8311 (TDD 312-353-8362). Hearing-impaired persons who will attend the meeting and require the services of a sign language interpreter should contact the Regional Office at least ten (10) working days before the scheduled date of the meeting.

The meeting will be conducted pursuant to the provisions of the rules and regulations of the Commission.

Dated at Washington, DC, February 25, 2000.
Carol-Lee Hurley,
Chief, Regional Programs Coordination Unit.

[FR Doc. 00-4982 Filed 3-1-00; 8:45 am]

BILLING CODE 6335-01-P